DEPARTMENT OF HEALTH AND HUMAN SERVICES

National Institutes of Health

National Institute of Nursing Research; Amended Notice of Meeting

Notice is hereby given of a change in the meeting of the National Institute of Nursing Research Special Emphasis Panel, May 14, 2003, 10 a.m. to May 14, 2003, 12 p.m. National Institute of Nursing Research, 6701 Democracy Plaza, Bethesda, MD 20817 which was published in the Federal Register on May 15, 2003, FR 68, Pg 26324.

The meeting will be held on July 24, 2003 at 1 p.m. to 2 p.m. The meeting is closed to the public.

Dated: July 29, 2003.
LaVerne Y. Stringfield,
Director, Office of Federal Advisory Committee Policy.

[FR Doc. 03-19766 Filed 8-1-03; 8:45 am]

BILLING CODE 4140-01-M